DEPARTMENT OF COMMERCE

International Trade Administration

[A-570-879]

Extension of Time Limit for the Preliminary Results of the Antidumping Duty Administrative Review: Polyvinyl Alcohol from the People's Republic of China

AGENCY: Import Administration, International Trade Administration, Department of Commerce.

EFFECTIVE DATE: September 6, 2005.

FOR FURTHER INFORMATION CONTACT: Lilit Astvatsatrian, AD/CVD Operations, Office 8, Import Administration, International Trade Administration, U.S. Department of Commerce, 14th Street and Constitution Avenue, NW., Washington, DC 20230; telephone: (202) 482-6412.

SUPPLEMENTARY INFORMATION:

Background

The Department of Commerce (“the Department”) published an antidumping duty order on polyvinyl alcohol (“PVA”) from the People's Republic of China (“PRC”) on October 1, 2003. See Antidumping Duty Order: Polyvinyl Alcohol from the People's Republic of China, 68 FR 56620 (October 1, 2003). On October 29, 2004, the petitioners¹ requested that the Department conduct an antidumping duty administrative review of Sinopec Sichuan Vinylon Works.

¹ Celanese, Ltd. and E.I. du Pont de Nemours & Co. (collectively “petitioners”).

On November 19, 2004, the Department published in the Federal Register a notice of the initiation of the antidumping duty administrative review of PVA from the PRC for the period March 20, 2003, through September 30, 2004. See Initiation of Antidumping and Countervailing Duty Administrative Reviews, 69 FR 67701 (November 19, 2004).² On June 23, 2005, the Department published in the Federal Register a notice extending the time limit for the preliminary results of the administrative review from July 3, 2005, to August 2, 2005. See Extension of Time Limit for the Preliminary Results of the Antidumping Duty Administrative Review: Polyvinyl Alcohol from the People's Republic of China, 70 FR 36375 (June 23, 2005). On July 22, 2005, the Department published in the Federal Register a notice extending the time limit for the preliminary results of the administrative review from August 2, 2005, to September 16, 2005. See Extension of Time Limit for the Preliminary Results of the Antidumping Duty Administrative Review: Polyvinyl Alcohol from the People's Republic of China, 70 FR 42309 (July 22, 2005). The preliminary results of review are currently due no later than September 16, 2005.

² We note that the beginning date (i.e., March 20, 2003) of the announced period of review (“POR”) was not correct. The Department inadvertently published an incorrect beginning date which was the date of the preliminary determination of the investigation. Because the only respondent in this proceeding had a de minimis rate in the preliminary determination, the correct beginning date for the POR should have been the date of the final determination in the investigation. Thus, the Department corrected the beginning date of the POR to reflect the correct POR which is August 11, 2003, through September 30, 2004. See Memorandum to the File from Lilit Astvatsatrian, Case Analyst, through Robert Bolling, Program Manager, dated May 9, 2005.

Extension of Time Limit of Preliminary Results

Pursuant to section 751(a)(3)(A) of the Tariff Act of 1930, as amended (“the Act”), the Department shall issue preliminary results in an antidumping administrative review of an antidumping duty order within 245 days after the last day of the anniversary month of the date of publication of the order.

The Act further provides, however, that the Department may extend the deadline for completion of the preliminary results of review from 245 days to 365 days if it determines that it is not practicable to complete the preliminary results within the 245-day period. Completion of the preliminary results of this review within the 245-day period is not practicable because the Department needs additional time to research and analyze a significant amount of information pertaining to the respondent company's large number of factors of production, surrogate values, and to evaluate certain issues raised by the petitioners and the respondent company.

Because it is not practicable to complete this review within the time specified under the Act, we are extending the time period for issuing the preliminary results of review by an additional 45 days until October 31, 2005, in accordance with section 751(a)(3)(A) of the Act. The final results continue to be due 120 days after the publication of the preliminary results.

Dated: August 30, 2005.
Barbara E. Tillman,
Acting Deputy Assistant Secretary for Import Administration.

[FR Doc. E5-4844 Filed 9-2-05; 8:45 am]

BILLING CODE 3510-DS-S